DEPARTMENT OF STATE

[Public Notice: 11373]

Notice of Public Meeting

The Department of State will conduct a public meeting at 9:30 a.m. on Tuesday, April 6, 2021, by way of teleconference. Members of the public may participate up to the capacity of the teleconference phone line, which will handle 500 participants. To access the teleconference line, participants should call (804) 469-0625 and use participant Code 974556036#.

The primary purpose of the meeting is to prepare for the 8th session of the International Maritime Organization's (IMO) Sub-Committee on Navigation, Communication, and Search and Rescue to be held remotely, April 19-23, 2021.

The agenda items to be considered include:

—Adoption of the agenda

—Decisions of other IMO bodies

—Routing measures and mandatory ship reporting systems

—Recognition of the Japanese regional navigation satellite system Quasi-Zenith Satellite System (QZSS) and development of performance standards for shipborne satellite navigation system receiver equipment

—Safety measures for non-SOLAS ships operating in polar waters

—Revision of SOLAS chapters III and IV for Modernization of the GMDSS, including related and consequential amendments to other existing instruments

—Response to matters related to the ITU-R Study Groups and ITU World Radiocommunication Conference

—Revision of the Guidelines on places of refuge for ships in need of assistance (resolution A.949(23))

—Developments in GMDSS services, including guidelines on Maritime safety information (MSI)

—Development of global maritime SAR services, including harmonization of maritime and aeronautical procedures

—Biennial status report and provisional agenda for NCSR 9

—Election of Chair and Vice-Chair for 2022

—Any other business

Please note: The Sub-Committee may on short notice, adjust the NCSR 8 agenda to accommodate the constraints associated with the virtual meeting format. Any updates will be provided at the public meeting and in advance, if possible, to anyone who RSVPs.

Those who plan to participate may contact the meeting coordinator, George Detweiler, by email at George.H.Detweiler@uscg.mil, by phone at (202) 372-1566, or in writing at 2703 Martin Luther King Jr. Ave. SE, Stop 7418, Washington, DC 20593-7418. A request for reasonable accommodation should be made at the time of RSVP, and not later than April 30. Requests received after that date will be considered, but might not be possible to fulfill.

Jeremy M. Greenwood,
Coast Guard Liaison Officer, Office of Ocean and Polar Affairs, Department of State.

[FR Doc. 2021-04982 Filed 3-9-21; 8:45 am]

BILLING CODE 4710-09-P